DEPARTMENT OF LABOR

Employment and Training Administration

[TA-W-38,418]

Harbor Industries Traverse City, MI; Notice of Termination of Investigation

Pursuant to section 221 of the Trade Act of 1974, an investigation was initiated on December 11, 2000, in response to a worker petition which was filed on behalf of workers at Harbor Industries, Traverse City, Michigan.

The petitioner has requested that the petition be withdrawn. Consequently, further investigation in this case would serve no purpose, and the investigation has been terminated.

Signed at Washington, D.C. this 20th day of December 2000.
Linda G. Poole,
Certifying Officer, Division of Trade Adjustment Assistance.

[FR Doc. 01-939 Filed 1-10-01; 8:45 am]

BILLING CODE 4510-30-M